DEPARTMENT OF HEALTH AND HUMAN SERVICES

Office of the Secretary

Findings of Research Misconduct

AGENCY: Office of the Secretary, HHS.

ACTION: Notice.

SUMMARY: Findings of research misconduct have been made against Prasadarao Nemani, Ph.D. (also known as Nemani V. Prasadarao) (Respondent), Research Professor of Pediatrics, Division of Infectious Disease, Children's Hospital Los Angeles (CHLA). Dr. Nemani engaged in research misconduct in research supported by U.S. Public Health Service (PHS) funds, specifically National Institute of Allergy and Infectious Diseases (NIAID), National Institutes of Health (NIH), grants R01 AI040567 and R01 AI049473. The administrative actions, including supervision for a period of four (4) years, were implemented beginning on July 7, 2020, and are detailed below.

FOR FURTHER INFORMATION CONTACT: Elisabeth A. Handley, Director, Office of Research Integrity, 1101 Wootton Parkway, Suite 240, Rockville, MD 20852, (240) 453-8200.

SUPPLEMENTARY INFORMATION: Notice is hereby given that the Office of Research Integrity (ORI) has taken final action in the following case: Prasadarao Nemani, Ph.D., Children's Hospital Los Angeles: Based on the report of an investigation conducted by CHLA and additional analysis conducted by ORI in its oversight review, ORI found that Dr. Prasadarao Nemani, Research Professor of Pediatrics, Division of Infectious Disease, CHLA, engaged in research misconduct in research supported by PHS funds, specifically NIAID, NIH, grants R01 AI040567 and R01 AI049473.

ORI found that Respondent engaged in research misconduct by recklessly including falsified and/or fabricated data in the following published paper and grant applications submitted for PHS funds:

• Infect Immun. 2009;77:1031-43 (hereafter referred to as “Infect Immun 2009”). Retraction in: Infect Immun. 2018 May 22;86(6):e00212-18

• R01 AI107015-01 submitted to NIAID, NIH

• R01 AI125595-01A1 submitted to NIAID, NIH

• R01 AI125595-01 submitted to NIAID, NIH

• R01 NS073115-06A1 submitted to the National Institute of Neurological Disorders and Stroke (NINDS), NIH

Respondent recklessly reported falsified and/or fabricated image data for enterobacterial infection-induced intestinal epithelial cell injury in a neonatal murine model to falsely represent results using images from unrelated experiments in eight (8) figures included in one (1) published paper and four (4) grant applications. Specifically, Respondent falsely reported the following figures:

• Figure 1C in Infect Immun 2009

• Figures 7, 8A, 8B, and 8C in R01 AI107015-01

• Figure 6C in R01 AI125595-01A1

• Figure 6C R01 AI125595-01

• Figure 5B in R01 NS073115-06A1

Dr. Nemani entered into a Voluntary Settlement Agreement and agreed to the following:

(1) Respondent agreed to have his research supervised for a period of four (4) years beginning on July 7, 2020. Respondent agreed that prior to the submission of an application for PHS support for a research project on which Respondent's participation is proposed and prior to Respondent's participation in any capacity on PHS-supported research, Respondent shall ensure that a plan for supervision of Respondent's duties is submitted to ORI for approval. The supervision plan must be designed to ensure the scientific integrity of Respondent's research contribution. Respondent agreed that he shall not participate in any PHS-supported research until such a supervision plan is submitted to and approved by ORI. Respondent agreed to maintain responsibility for compliance with the agreed upon supervision plan.

(2) The requirements for Respondent's supervision plan are as follows:

i. A committee of 2-3 senior faculty members at the institution who are familiar with Respondent's field of research, but not including Respondent's supervisor or collaborators, will provide oversight and guidance for a period of four (4) years from the effective date of the Agreement. The committee will review primary data from Respondent's laboratory on a quarterly basis and submit a report to ORI at six (6) month intervals, setting forth the committee meeting dates and Respondent's compliance with appropriate research standards and confirming the integrity of Respondent's research.

ii. The committee will conduct an advance review of any PHS grant applications (including supplements, resubmissions, etc.), manuscripts reporting PHS-funded research submitted for publication, and abstracts. The review will include a discussion with Respondent of the primary data represented in those documents and will include a certification to ORI that the data presented in the proposed application/publication is supported by the research record.

(3) Respondent agreed that for a period of four (4) years beginning on July 7, 2020, any institution employing him shall submit, in conjunction with each application of PHS funds, or report, manuscript, or abstract involving PHS-supported research in which Respondent is involved, a certification to ORI that the data provided by Respondent are based on actual experiments or are otherwise legitimately derived and that the data, procedures, and methodology are accurately reported in the application, report, manuscript, or abstract.

(4) If no supervisory plan is provided to ORI, Respondent agreed to provide certification to ORI at the conclusion of the supervision period that he has not engaged in, applied for, or had his name included on any application, proposal, or other request for PHS funds without prior notification to ORI.

(5) Respondent agreed to exclude himself voluntarily from serving in any advisory capacity to PHS including, but not limited to, service on any PHS advisory committee, board, and/or peer review committee, or as a consultant for a period of four (4) years, beginning on July 7, 2020.

Dated: July 20, 2020.
Elisabeth A. Handley,
Director, Office of Research Integrity, Office of the Assistant Secretary for Health.

[FR Doc. 2020-16034 Filed 7-23-20; 8:45 am]

BILLING CODE 4150-31-P